DEPARTMENT OF JUSTICE

Office for Victims of Crime

[OJP[OVC]-1309]

Antiterrorism and Emergency Fund Guidelines for Terrorism and Mass Violence Crimes

AGENCY: Office for Victims of Crime, Office of Justice Programs, Justice.

ACTION: Notice of proposed guidelines.

SUMMARY: The Office for Victims of Crime (OVC) has developed these proposed Guidelines to implement the victim assistance provisions contained in the Antiterrorism and Effective Death Penalty Act of 1996 (Pub L. 104-132) and the Omnibus Consolidated Appropriations Act of 1997 (Pub. L. 104-208) and the Victims of Trafficking and Violence Prevention Act of 2000 (Pub. L. 106-386). 42 U.S.C. 10603b and 10603c outline the specific authority of the OVC to provide compensation and assistance to victims of acts of terrorism or mass violence within and assistance to victims of terrorism and mass violence outside the United States. Funding available through the Antiterrorism and Emergency Fund is designed to provide timely relief and to help prevent immediate and on-going challenges in responding to victims of terrorism or mass violence. Assistance from this program is not limited to Presidentially declared human-caused disasters and other mass casualty crimes. Funding and support is not provided automatically. Requested funds must supplement, not supplant, existing resources. Non-federal contributions (cash or in-kind) are expected for each type of grant. Federal agencies are not expected to make a contribution. Amounts paid out of state funds to victims of terrorism or mass violence may be included in a states annual certification of payments to victims which is the basis for matching federal victim compensation formula grants.

DATES: Submit comments on or before April 2, 2001.

FOR FURTHER INFORMATION CONTACT: Carolyn Hightower, Deputy Director, Office for Victims of Crime, 810 Seventh Street, NW., Washington, DC 20531, telephone (202) 307-5983.

SUPPLEMENTARY INFORMATION:

I. Authority

42 U.S.C. § 10604 provides authority to the Director of OVC to establish rules, regulations, guidelines and procedures consistent with the program oversight and implementation responsibilities of the Director. OVC is publishing these proposed Guidelines for implementation of its authority under the Antiterrorism and Effective Death Penalty and Trafficking and Violence Prevention Acts. The public has 30 days to provide comments regarding the proposed rules set forth in these proposed Guidelines. OVC will issue a separate set of Guidelines to implement the new Compensation Program for International Terrorism Victims authorized by the Victims of Trafficking and Violence Prevention Act of 2000 (Pub L. 106-386). OVC will review the comments received and make changes, as appropriate, in the Guidelines in response to the comments received prior to issuing the Final Program Guidelines.

II. Introduction and Background

OVC was created by the U.S. Department of Justice in 1983 and formally established by Congress in 1988 through an amendment to the Victims of Crime Act of 1984 [42.U.S.C. § 10601]. OVC's mission is to enhance the Nation's capacity to assist victims of crime and to provide leadership in changing attitudes, policies, and practices to promote justice and healing for all victims of crime. OVC accomplishes its mission in a variety of ways: Administering the Crime Victims Fund, supporting direct services, providing training programs, sponsoring demonstration projects with national and international impact, and publishing and disseminating materials that highlight promising practices in the effective support of crime victims that can be replicated throughout the country and worldwide. Also, OVC is in the process of establishing a compensation program for victims of international terrorism.

OVC works with international, national, tribal, state, military, and local victim assistance and criminal justice agencies, as well as other professional organizations to promote fundamental rights and comprehensive services for crime victims. The largest amount of OVC funding is provided to state agencies designated by the governor to administer programs to assist crime victims—crime victim compensation and victim assistance. OVC is not only a grant funding agency, but also advocates for the fair treatment of crime victims, develops policy and provides technical assistance to states, localities, and other federal agencies on effective responses to crime victims, and supports public awareness and education on critical victim issues [42 U.S.C. 10604 and 10605]. OVC monitors federal agency compliance with federal statutes and guidelines dictating the fair treatment of crime victims, and prepares an annual compliance report for the Attorney General as well as periodically updates the AG Guidelines for Victim and Witness Assistance. This is done by entering into interagency agreements and memoranda of understanding, offering technical assistance through expert consultants, and forming and leading working groups to address issues impacting crime victims. In addition, OVC provides funding to support services to people victimized on tribal or federal lands, such as military bases and national parks. OVC provides emergency funds to federal agencies with victim and witness responsibility to assist victims of federal crime when no other resources are available.

Statement about Terrorism and Mass Violence. Violent and unexpected acts of terrorism and criminal mass casualty may leave the victims with serious physical and emotional wounds. Nothing in life prepares people for the horror of an act of terrorism or mass violence that robs them of their sense of security and in some instances a loved one. Victims of violent crime experience a range of needs—physical, financial, emotional, and legal. Victims are entitled by law in the United States to certain types of information and support services. While victims of terrorism have much in common with other violent crime victims and with disaster victims, they appear to experience higher levels of distress that are in part due to the unique issues related to the traumatic elements, and often the magnitude, of these politically motivated events. Terrorism and mass violence may involve murders that are committed by more than one person, multiple victims, and a greater degree of violence. Targeting of victims can be either random or specific such as in the case of the Oklahoma City bombing where Federal Government employees were the target's of the terrorists activities or in the case of the school shooting in Littleton, Colorado at Columbine High School that resulted in 15 fatalities, including the gunmen, and numerous injuries. Terrorism and mass violence may place people at risk for significant and long-term psychological and physical challenges. Like other victims of violent crime, victims of terrorism and mass violence need help in dealing with the crisis created by the event, in stabilizing their lives, and with understanding and participating in the criminal justice process—whether there is an arrest and trial soon after the criminal act, or if an arrest and trial is delayed for years.

International terrorist attacks can involve victims and survivors from many different countries and different states within the United States. The local governmental infrastructure and resources of non-government organizations vary considerably in foreign countries. Thus the ability to respond to a terrorist or mass violence incident, provide crisis intervention and services to victims also varies. In addition, care givers are sometimes unable to effectively intervene due to language, legal, or cultural barriers. When terrorism or mass violence is perpetrated against U.S. citizens abroad, U.S. government agencies and others that are involved in the response must operate in a manner that is not in conflict with the laws of the foreign country. The efforts, services and benefits of several federal agencies and programs, as well as some state victim assistance and compensation programs, and the efforts of non-government organizations must be well coordinated. Further, in international cases, victims may need services or incur expenses that are not traditionally provided by states or the Federal government. In an effort to promote effective services to these victims, OVC works with federal, state, and local agencies as well as international organizations to establish comprehensive, appropriate, and consistent assistance for victims of terrorism and mass violence occurring outside of the United States.

Impetus for Congressional Authorization. Following the bombing of the federal office building in Oklahoma City on April 19, 1995, Congress took a number of legislative steps to authorize funding and activities to assist the bombing victims. First, they passed legislation authorizing the Director of OVC to set aside monies from the Antiterrorism and Emergency Fund to make funds available to U.S. Attorneys Offices to provide assistance to the victims of the bombing, to facilitate their observation and attendance in trial proceedings, and for other related expenses. Next, Congress amended the Victims of Crime Act (VOCA) of 1984 [42 U.S.C. § 10603b] to provide general authority to the OVC Director to respond to other incidents of terrorism or mass violence within the United States and abroad. OVC has used the Antiterrorism and Emergency Fund to provide funding to support the victims of the Oklahoma City bombing, the bombing of Pan Am Flight 103, the bombing of the U.S. Embassies in Kenya and Tanzania, and two cases of mass violence—the school shootings in Oregon and Colorado.

In the second session of the 106th Congress, federal legislators enacted the Victims of Trafficking and Violence Protection Act of 2000 (Pub. L. 106-386) which provides aid for victims of terrorism and expanded OVC's authority to respond to incidents of terrorism and mass violence outside the United States. Congress authorized the OVC Director: to increase money set aside for the Antiterrorism and Emergency Fund to $100 million and to deposit deobligated dollars from other funded program areas into this special Fund; to expand the list of eligible applicants for funding in cases of terrorism outside the U.S. to include, not only states and United States Attorneys Offices, but also victim service organizations, and public agencies (including Federal, State, or local governments), and non-governmental organizations that provide assistance to victims of crime by providing emergency relief including crisis response efforts, assistance, training and technical assistance and on-going assistance including during any investigation and prosecution [42 U.S.C. 10603b(a)]; and to use the Antiterrorism and Emergency Fund to establish a program to compensate victims of acts of international terrorism that occur outside the United States for associated expenses. These proposed Guidelines apply only to OVC's efforts to provide funding in cases of terrorism and mass violence occurring within and outside the United States and for supporting services, other than compensation. (Separate guidelines will be established for the international compensation program.) The program is designed to supplement the available resources and services of entities responding to acts of terrorism or mass violence. Thus, Antiterrorism and Emergency Fund support may be granted if needed services cannot be adequately provided with existing resources, or if the provision of services and assistance will result in an undue financial hardship on the jurisdiction's ability to respond to crime victims in a comprehensive and timely manner. OVC works with several federal agencies such as the Federal Emergency Management Agency, the Center for Mental Health Services, the Department of Education, the Department of State as well as others to make available their respective expertise and to maximize federal funding through interagency coordination to assist crime victims.

Role of the Federal Government. In recent years, the Federal Government has been called upon to play a larger role in mitigating and responding to all types of human-caused violent events and disasters. The federal responsibility ranges from immediate disaster relief to subsequent assistance that helps victims and communities to recover from a terrorist act or mass violence incident, and helps victims participate effectively in the criminal justice process. Moreover, because terrorist acts are federal crimes, investigated and prosecuted by federal law enforcement officials, federal criminal justice agencies have statutory responsibilities under the Attorney General's Guidelines for Victim and Witness Assistance related to victims' rights and services in connection with terrorism criminal cases.

Role of State Governments. State Crime Victim Compensation Programs reimburse crime victims for out-of-pocket expenses such as medical expenses, mental health counseling, funeral and burial costs, and lost wages related to their victimization, and state and local victim services agencies provide a wide variety of direct assistance to victims of federal and state crimes such as crisis counseling, temporary shelter, criminal justice advocacy, and the like. OVC works in concert with these programs to maximize the limited funding available to assist crime victims and facilitate coordination among the various responding agency's including federal law enforcement and prosecutorial agencies victim and witness staff.

Role of Other Public and Private Entities. Public and private sector organizations have a unique role in meeting the needs of crime victims through their various mandates and programs. Organizations like the United Way, the American Red Cross, and others offer important large scale response to communities victimized by crime.

III. Statutory Language and Definitions

The Antiterrorism and Effective Death Penalty Act of 1996 gave OVC the authority to establish and access the Antiterrorism and Emergency Fund in terrorism and mass violence cases. The Act amended the Victims of Crime Act (VOCA) adding a new provision, 42 U.S.C. 10603b, which covers terrorism or mass violence occurring both within and outside the United States. The Victims of Trafficking and Violence Prevention Act of 2000 expanded OVC's authority under 42 U.S.C. 10603b(a) to authorize the OVC Director to provide comprehensive and timely assistance to victims of terrorism occurring outside the United States.

In cases of terrorism or mass violence outside the United States, 42 U.S.C. 10603b(a) authorizes OVC to provide funding for emergency relief, including crisis response efforts, assistance, training, and technical assistance, and on-going assistance including during any investigation or prosecution, to benefit of victims of terrorist acts or mass violence. In cases of terrorism or mass violence occurring outside the United States, OVC is authorized to provide funding to states, victim service organizations, public agencies (including federal, state, or local governments), and non-governmental organizations that provide assistance to victims of crime.

In cases of terrorism or mass violence occurring within the United States, 42 U.S.C. 10603b(b) authorizes OVC to provide emergency relief, including crisis response efforts, assistance, training, and technical assistance for the benefit of victims of terrorist acts or mass violence. Eligible applicants for funding are limited to state victim compensation and assistance programs and United States Attorneys Offices. The United States Attorney's Offices may use funding in coordination with the State crime victim compensation and assistance programs to provide emergency relief and assistance throughout the criminal justice process.

Definitions

Terrorism occurring within the United States. The term “terrorism” means an activity that * * * (A) involves a violent act or an act dangerous to human life that is a violation of the criminal laws of the United States or of any State, or that would be a criminal violation if committed within the jurisdiction of the United States or of any State; and (B) appear to be intended * * * (i) to intimidate or coerce a civilian population; (ii) influence the policy of a government by intimidation or coercion; or (iii) to affect the conduct of a government by assassination or kidnaping. [18 U.S.C. 3077]

Terrorism occurring outside the United States. The term “international terrorism” is being used to define terrorism outside the United States and means an activity that * * * (A) involves a violent act or an act dangerous to human life that are a violation of the criminal laws of the United States or of any State, or that would be a criminal violation if committed within the jurisdiction of the United States or of any State; (B) appear to be intended * * * (i) to intimidate or coerce a civilian population; (ii) influence the policy of a government by intimidation or coercion; or (iii) to affect the conduct of a government by assassination or kidnaping; and (C) occur primarily outside the territorial jurisdiction of the United States, or transcend national boundaries in terms of the means by which they are accomplished, the persons they appear intended to intimidate or coerce, or the locale in which their perpetrators operate or seek asylum.” [18 U.S.C. 2331]

Mass Violence occurring within or outside the United States. The term “mass violence” is not defined in VOCA or any statute amending VOCA nor is it defined the U.S. Criminal Code. Thus, OVC has developed a working definition of this term. For purposes of accessing the Antiterrorism and Emergency Fund, the term “mass violence” means an intentional violent criminal act, for which a formal investigation has been opened by the Federal Bureau of Investigation or other law enforcement agency, that results in physical, emotional or psychological injury to a sufficiently large number of people as to significantly increase the burden of victim assistance for the responding jurisdiction.

Emergency Relief. Means those activities intended to address a need which if left unattended may result in significant consequences. Emergency relief may include assistance required during the investigation and prosecution of an act of terrorism or mass violence as well as activities needed immediately following the criminal event.

Supplantation. Means to deliberately reduce state or local funds because of the availability of federal funds. For example, when state funds are appropriated for a stated purpose and federal funds are awarded for that same purpose, the state replaces its state funds with federal funds, thereby reducing the total amount available for the stated purpose (OJP Financial Guide).

In-kind support/contribution. Includes, but is not limited to, the valuation of in-kind services. “In-kind” is the value of something received or provided that does not have a cost associated with it. For example, if in-kind match is permitted by law (other than cash payments), then the value of donated services could be used to comply with the match requirement. (OJP Financial Guide).

IV. Source of Funding

Crime Victims Fund. A major responsibility of OVC is to administer the Crime Victims Fund, which is derived, not from tax dollars, but from fines and penalties paid by federal criminal offenders. A large percentage of the money collected each year is distributed to states to assist in funding their victim assistance and compensation programs. These programs are the lifeline services that help many victims to cope with the devastation of crime. The Fund also supports OVC's training and technical assistance and demonstration efforts as well as its direct services to victims of federal crime.

Antiterrorism and Emergency Fund. The OVC Director is authorized to hold in reserve up to $100 million of the Crime Victims Fund for two purposes—to off-set collections and deposits in the Fund and thereby stabilize funding for state and local victim service programs, and to support compensation and assistance services for victims of terrorism or mass violence. Thus far this money has been used to assist the victims of the Oklahoma City bombing, the East Africa Embassy bombings, Pan Am Flight 103 bombing, and school shootings in Oregon and Colorado. In both the Oklahoma City and Pan Am Flight 103 bombing cases, Congress enacted special legislation that expanded OVC's authority to fund activities beyond the parameters of the previous governing statute.

V. Types of Assistance

There are five types of support available from OVC to respond to terrorism and mass violence: (a) Crisis response grants; (b) consequence management grants; (c) criminal justice support grants; (d) compensation grants; and (e) technical assistance/training services. Jurisdictions are not limited to receiving only one type of assistance. Funding and other assistance may be provided for an extended period of time if the justification is provided by the applicant. Justification for extension in cases of terrorism within the U.S. must meet the emergency relief requirement, as determined by the OVC Director and the Office of General Counsel. Funding may be provided for each type of assistance available; however, coordination among the applicants is expected and a separate application must be submitted for each. OVC does not provide funding directly to individual crime victims, except compensation benefits in the case of international terrorism.

A. Crisis Response Grants (emergency/short-term, 6-9 months) are designed to provide resources to help victims rebuild adaptive capacities, decrease stressors, and to reduce symptoms of trauma immediately following the terrorism or mass violence event. Requests for crisis response funding must be made as soon as practical following the mass casualty event. In cases where requests for funding for mental health services assistance are made, OVC may work in tandem with the Disaster Relief Branch at the Center for Mental Health Services, SAMHSA. No additional application information is needed for Crisis Response Grants beyond the core application requirements.

B. Consequence Management Grants (on-going/longer-term, 12-18 months) are designed to provide supplemental resources to help victims adapt to the trauma event and to restore the victims sense of equilibrium. In addition to the core application requirements, requests for federal assistance should include identification of service providers with experience and knowledge about working with violent crime victims and a long-range or transition plan for providing assistance to victims.

C. Criminal Justice Support Grants (on-going/longer-term, 18-24 months) are designed to facilitate victim participation in an investigation or prosecution directly related to the terrorist and mass violence event. Requests for funding from a federal agency requires only a letter containing an assessment of the need and estimated scope and cost of the proposed services with a budget and budget narrative. Funding will be made available in the form of a reimbursable agreement. No SF 424, Application for Federal Assistance is required. In cases where there may be multiple jurisdiction in prosecuting the perpetrators, priority will be given to supporting the federal investigation and prosecution. It is within the OVC Director's authority to approve or deny requests for support for subsequent or parallel state criminal investigations and prosecutions.

D. Crime Victim Compensation Grants are designed to provide supplemental funding to a state crime victim compensation program in cases of terrorism or mass violence occurring within the United States to reimburse victims for out-of-pocket expenses related to their victimization. Grant funds may be used to pay claims to victims for cost that includes, but is not limited to medical and mental health counseling, funeral and burial, and lost wages. (See Section VIII for other allowable activities and expenses.)

Note: OVC may provide funding to other organizations to cover expenses not traditionally covered by state crime victim compensation programs. State crime victim compensation programs will be notified if such an award is made.

Requests for funding from State Crime Victim Compensation Programs to address the needs of victims of terrorism or mass violence occurring within the United States may be made at anytime and should include the projected number of claims to be paid and the projected number of claimants to receive payments, and the estimated amount per claim as well as the states maximum award amount by category, i.e., medical, mental health, loss wages, funeral, etc. The request should also describe the range of expenses covered by the program and the amount of state funding available to cover expenses of the victims. This information will allow OVC to determine if it must provide funding to another source to cover expenses beyond the scope of the state compensation program requesting funding.

In the event that a victim, who receives compensation benefits from a state administered compensation program, recovers expenses from a collateral source, the state must be reimbursed accordingly and funds must be used to assist other victims of the specific act of terrorism or mass violence for which the Antiterrorism and Emergency Fund dollars were awarded.

E. Request for Technical Assistance and Training. A request for technical assistance or training may be made any time during the aftermath of terrorism or mass violence and during the criminal justice investigation or prosecution. Technical assistance is principally available to help federal, state, and local authorities identify victim needs and needed resources, to coordinate services to victims, to develop short- and longer- term strategies for responding, and for other purposes deemed necessary and essential by OVC Director. Technical assistance may consist of OVC staff alone or supplemented with other federal agency personnel or individuals from OVC's consultant database. Technical assistance providers may be provided by state and local agency personnel from other jurisdictions with experience in similar situations with logistical support from OVC. In addition to the core application requirements, applicants requesting Technical Assistance and Training must provide an assessment of the need which identifies the recipient(s), the nature of the problem, type of assistance needed, the duration of assistance, and timetable and plan for implementing outcomes.

VI. Allowable Activities

The range of services that OVC will support for terrorism and mass violence victims is outlined in this section. Allowable expenses are based, in part, on activities authorized in guidelines established for OVC's Federal Emergency Assistance Fund and VOCA Victim Assistance and Compensation Program Guidelines. In addition, OVC has relied upon the requirements of the Attorney General Guidelines for Victim and Witness Assistance for affording rights and providing services to federal crime victims to guide the development of these proposed Guidelines.

The services identified are intended to complement services that are available from other agencies and organizations as well as ensure a “base” level of assistance is available to terrorism and mass violence victims. Funding for services and other support may include, but are not limited to the following:

Crisis Response Assistance

Crisis counseling

Employer and creditor intervention

Child and dependent care

Assistance securing compensation

Emergency food, housing, and clothing

Toll-free telephone lines

Transportation assistance

Needs assessment (limited)

Consequence Management Assistance

Counseling and group therapy

Employer and creditor intervention

Victim informational websites

Rehabilitation expenses

Vocational Rehabilitation

Temporary housing, per diem, and relocation

Transportation assistance

Needs assessment (expanded)

Criminal Justice Support Assistance

Victim Identification

Information and Referral

Case briefings by investigators, prosecutors

Coordination

Closed circuit monitoring of trial

Victim Information (printed and electronic)

Assistance with Victim Impact Statements

Criminal Justice Notification

Travel to trial/criminal justice proceedings

Needs assessment

Crime Victim Compensation Assistance

Telephone costs to contact family members abroad

Autopsy, refrigeration, and transport of body

Emergency Travel and/or transportation costs

Attorneys fees (settle estates, etc.)

Co-payments required by insurance programs

Outpatient mental health treatment/therapy

Medical expenses including non-medical attendant services, rehabilitation & physical therapy diagnostic examinations, prosthetic devices, eyeglasses

Note: Allowable activities in one category may be necessary and authorized in another funding category.

VII. Accessing Emergency Fund Funding

Eligible Applicants. In the case of terrorism or mass violence within the United States, funding may be granted to state victim compensation and assistance programs and United States Attorneys offices to provide emergency relief, including crisis response efforts, assistance, training, and technical assistance for the benefit of victims of terrorist acts or mass violence. In the case of terrorism or mass violence outside the United States, funding may be granted to states, victim service organizations, and public agencies (including federal, state or local governments) and non-governmental organizations that provide assistance to victims of crime to provide emergency relief, including crisis response efforts, assistance, training, and technical assistance, ongoing assistance, including during any investigation or prosecution. OVC will not provide funding to a foreign or domestic organization operated for the purpose of engaging in any significant political or lobbying activities or to individual crime victims, except compensation benefits in the case of international terrorism. [See international compensation guidelines upon issuance.] Funding will be made available to state VOCA agencies in the form of a grant. Funding provided to federal agencies shall be made in the form of an Reimbursable Agreement between OVC and the federal agency.

The chief executive officer for the agency/organization must sign the grant application, award documents and special conditions. In the case of grant funding provided to a state compensation or assistance agency, the authorized applicant is the VOCA administrator designated by the governor to apply for and administer federal funds. The officer must attest that funding made available from the Antiterrorism and Emergency Fund will only be used for the purposes to respond to the needs of victims of terrorism and/or mass violence.

Eligible Recipients. Eligible recipients of funds includes victims and surviving family members of victims of terrorism or mass violence. In international terrorism cases, eligible recipients include persons who are legal residents, nationals of the United States or an officer or employee of the United States Government who is injured or killed as a result of a terrorist act or mass violence. This includes a family member or legal guardian for persons who are less than 18 years of age, incompetent, incapacitated, or deceased. Unless otherwise indicated, these individuals are generally eligible for assistance from federally funded victim assistance programs as well as compensation from the OVC-administered international compensation program.

Coordination of Effort with Other Public and Private Entities. Public and private organizations offer important large scale assistance to communities in crisis. OVC has drawn heavily upon the experiences of agencies such as the Federal Emergency Management Agency and the Center for Mental Health Services both of which have responsibility for providing assistance to communities following disasters. Extensive coordination with these agencies and the Departments of Education and State are integral to OVC's response in cases of terrorism and mass violence. We strongly encourage applicants to engage in similar types of coordination and planning with other relief agencies as this will be an important criterion in determining the amount of funding available from OVC. Funding is authorized for a coordinated needs assessment at each level of response. Extensive coordination with agencies such as state emergency preparedness, state mental health, local chapters of the American Red Cross and the United Way is an important component to an effective response to terrorism and mass violence. To avoid duplication of effort, OVC requires applicants to identify other public and private entities which may be available to assist in a response to terrorism or mass violence. Prior to submitting a request for funding to OVC, the applicant should contact these entities and define the range of services they will provide to support the response prior to submitting a request for funding.

Areas of Special Concern. In the development of a request for assistance, the applicant should be cognizant of special concerns, such as applicable state or federal laws and requirements regarding rights and services for crime victims, and the needs of high-risk populations, such as children, the elderly, and people with disabilities.

Application Process. An application for funding should be submitted to the OVC Director as soon as practical following a terrorist or mass violence event by the appropriate state or federal official or private victim service and non-governmental organizations. OVC has developed an application kit to assist in making application for Antiterrorism and Emergency Fund dollars. The kit will be mailed or faxed to potential applicants upon request.

Depending upon the type of assistance sought, requests for funding may include the following in addition to specific application requirements identified for each type of assistance:

• SF 424, Application for Federal Funding and applicable forms

• Letter of request containing the following, as appropriate:

—Description of the mass casualty event, including the type of event, identification of the lead law enforcement entity conducting the investigation, explanation of the criminality of the incident (terrorism or mass violence), time-place-duration of the event, estimated number of affected victims, and proposed course of action; description of activities from the date of incident to the date of application submission; identification (list) of service providers; description of services to be provided; period of time requested support;

—Projected budget based on actual or estimated costs including description of cash or in-kind contribution;

—Identification of the principals and staff who will oversee the implementation of services;

—Explanation why existing resources are insufficient to support a comprehensive response; and

—Any other known resources available to assist in the response

Requests for funding must identify all other federal and non-federal contributions (cash or in-kind). The request must include a description of existing services and resources available for services to victims. For the purposes of determining undue financial hardship for assistance, applicants must describe why existing resources are insufficient to meet the demand or how providing services and support to terrorism or mass violence victims may deplete resources available to provide assistance to other victims of crime.

Application Processing and Turnaround Time. It is OVC's intention to provide rapid support to assist victims of terrorism and mass violence. Upon receipt of a letter of request and application, an OVC staff person will review the request, may contact the requesting agency to clarify any ambiguities, and make a recommendation to the OVC Director regarding the funding request in accordance with OVC's internal protocol for responding to incidents of terrorism and mass violence. The applicant can expect to receive notification regarding the determination from OVC within 5 business days. The applicant will be notified via telephone, Internet, or facsimile. OVC will process the necessary paperwork expeditiously to make funding available. A determination by the OVC Director to make funding available will be followed by a complete review of the application including an analysis and approval of the budget by the Office of the Comptroller. Funds will be available upon completion of the review and written notification and acceptance of the award.

Amount of Funding Available Per Incident. The amount of funding available is decided on a case-by-case basis based on factors such as the availability of other resources, the severity of the impact, and the number of people suffering from physical, emotional, and psychological injury. In the case of criminal justice support grants, the nature of the support being requested is a factor in determining the amount as well as the extent to which the response involves activities that will result in long-term improvements in how victims access and participate in criminal justice proceedings such as the development of protocols and systems to enhance victim notification. OVC applies a standard of “reasonable accommodations” in determining what expenditures will be approved and at what amount.

Grant period. The specific grant period for Antiterrorism and Emergency Fund funding is negotiable within the parameters outlined in VOCA. Because of the nature of this funding program, OVC will not provide long-term funding to support a single terrorist or mass violence event, except for criminal justice support grants when an investigation and prosecution is prolonged. Specific time frames have been identified for each type of assistance. However, if special circumstances exists, funding and other assistance may be provided for an extended period of time, as determined by the OVC Director based upon justification provided by the applicant.

Requests for Reconsideration. The OVC Director may deny a request for funding, if the applicant fails to document the need for federal funds, if the purposes for which funding is being sought falls outside the statutory authority for the use of these funds, or if funding is unavailable, or for other reasons deemed appropriate by the OVC Director. Applicants may request reconsideration of the request based on additional information, changes in the circumstances, or the withdrawal or termination of funding from other sources. Requests for reconsideration should be sent to the OVC Director and should include the basis for reconsideration of the initial request. The OVC Director will review the request and render a decision within 5 business days of the submission. The OVC Director may request additional information from the applicant or recommend alternative support from OVC such as technical assistance in lieu of direct funding.

Suspension and Termination of Funding. If, after notice, OVC finds that the recipient has failed to comply substantially with VOCA, including its prohibitions of discrimination on the basis of race, color, religion, national origin, handicap, or sex, the OJP Financial Guide (effective edition), the terms outlined in the application or award document, the final Guidelines, or any implementing regulation or requirement, the OVC Director may suspend or terminate funding to the recipient agency and/or take other appropriate action. Under the procedures of 28 CFR Part 18, recipients may request a hearing on the justification for the suspension and/or termination of Antiterrorism and Emergency Fund assistance.

VIII. Reporting Requirements

Financial Reporting Requirements. As a condition of receiving funding, recipients must agree to comply with the general and specific requirements of the OJP Financial Guide, applicable OMB Circulars, and Common Rules. This include maintenance of books and records in accordance with generally accepted government accounting principles. Copies of the OJP Financial Guide may be obtained by writing the Office of Justice Programs, Office of the Comptroller, 810 7th Street, N.W., Washington, D.C. 20531 or can be accessed at the OJP website at http://www.ojp.usdoj.gov/FinGuide/. Note: Financial Status Reports must be submitted to the Office of the Comptroller for each calendar quarter in which the grant is active. This report is due even if no obligations or expenditures were incurred during the reporting period.

Program Reporting Requirements. Recipients of Antiterrorism and Emergency Reserve Funds are required to submit a report containing the following information at the mid-way period of the grant or supported activity as well as at the conclusion of the award period documenting the following:

Breakout of expenditures

description of services provided

number of victims assisted

amount of funding expended

purpose of each expenditure, e.g., hire staff, secure space, contract for services, conduct training, equipment, travel and transportation, etc.

Description of Plans for Addressing Longer Term and Unmet Needs

transition plan, i.e., how services will be funded when federal funds have been exhausted.

Evaluation/Assessment of the Effectiveness of the Response

outcome of victim/user surveys

Note: State agencies that administer the VOCA formula grants and receive Antiterrorism and Emergency Fund dollars to respond to a case of terrorism or mass violence should report services and assistance rendered to victims on the state performance report.

Dated: March 28, 2001.
Mary Lou Leary,
Acting Assistant Attorney General, Office of Justice Programs.

[FR Doc. 01-8044 Filed 3-30-01; 8:45 am]

BILLING CODE 4410-18-U